Title 3—

The President

Proclamation 10924 of April 26, 2025

World Intellectual Property Day, 2025

By the President of the United States of America

A Proclamation

More than 200 years ago, our Founding Fathers recognized the profound importance of intellectual property, enshrining government-granted legal protections in the Constitution to safeguard American innovation. On World Intellectual Property Day, we renew our resolve to protect and secure the creative triumphs of American inventors and artists as they work to pull the future into the present and turn their dreams into our reality.

Americans have always been leaders in the realms of technology and ideas—and under my Administration, we are driving innovation in every sector, including emerging digital technologies like artificial intelligence. I recently signed an Executive Order on Removing Barriers to American Leadership in Artificial Intelligence to slash red tape and ensure our continued leadership in this and other critical industries like automation, blockchain, data analytics, and cybersecurity.

For this reason, I established the Council of Advisors on Science and Technology, which is bringing together the best and brightest to shape the United States' innovation policy and ensure our continued technological leadership. My Administration will not waver in protecting and securing emerging, next-generation technologies that will drive progress and growth in the 21st century.

My Administration is taking strong action to protect the promise of American innovation. For too long, our adversaries and allies alike have sapped our strength and exploited American advancements. Through the strategic use of tariffs, we are recentering our trade policy and securing stronger intellectual property protections in new and existing trade deals. Just as we protect our physical property, we will not tolerate the theft of our intellectual property, and we will defend our businesses and people from those who are seeking to steal American jobs and wealth.

As President Calvin Coolidge once said in an immortal maxim that remains true to this day, “The business of America is business.” Our economy is the greatest in the world because we, more than any other country, incentivize individuals to dream big, take risks, and make the impossible possible. Through our promotion and protection of intellectual property, we are empowering musicians, writers, authors, scientists, and inventors to focus on what they do best.

The future of our great Nation depends on the continued safeguarding of our intellectual property, which fuels economic growth, technological progress, and global competitiveness. This World Intellectual Property Day, we reaffirm our unwavering commitment to protecting and promoting the innovative spirit that continues to make America great.

NOW, THEREFORE, I, DONALD J. TRUMP, President of the United States of America, by virtue of the authority vested in me by the Constitution and the laws of the United States, do hereby proclaim April 26, 2025, as World Intellectual Property Day. I encourage Americans to celebrate the extraordinary achievements of our creators and inventors and the contributions they have made and will continue making to our country.

IN WITNESS WHEREOF, I have hereunto set my hand this twenty-sixth day of April, in the year of our Lord two thousand twenty-five, and of the Independence of the United States of America the two hundred and forty-ninth.

[FR Doc. 2025-07570

Filed 4-29-25; 8:45 am]

Billing code 3395-F4-P